DEPARTMENT OF ENERGY

Federal Energy Regulatory Commission

[Docket No. EC00-102-000, et al.]

Koch Power Louisiana, L.L.C., et al.; Electric Rate and Corporate Regulation Filings

June 22, 2000.

Take notice that the following filings have been made with the Commission:

1. Koch Power Louisiana, L.L.C. and NRG Energy, Inc.

[Docket No. EC00-102-000]

Take notice that on June 14, 2000, Koch Power Louisiana, L.L.C. (KPL) and NRG Energy, Inc. (NRG) tendered for filing an application under section 203 of the Federal Power Act for approval of the transfer of Koch Power, Inc.'s 100 percent membership interest in KPL to NRG's subsidiary NRG South Central Generating LLC. KPL owns an approximately 200 MW electric generating facility in Sterlington, Louisiana. NRG is a majority-owned subsidiary of Northern States Power Company (NSP), a combination electric and gas utility company operating in the states of Minnesota, North Dakota, and South Dakota.

Comment date: July 14, 2000, in accordance with Standard Paragraph E at the end of this notice.

2. Louisville Gas and Electric Company/Kentucky Utilities Company

[Docket No. ER00-2879-000]

Take notice that on June 19, 2000, Louisville Gas and Electric Company (LG&E)/Kentucky Utilities (KU) (hereinafter Companies) tendered for filing an executed unilateral transmission service agreement with Allegheny Energy Supply Company, LLC. (Allegheny). This agreement allows Allegheny to take non-firm point-to-point transmission service from LG&E/KU.

Comment date: July 10, 2000, in accordance with Standard Paragraph E at the end of this notice.

3. Louisville Gas and Electric Company/Kentucky Utilities Company

[Docket No. ER00-2880-000]

Take notice that on June 19, 2000, Louisville Gas and Electric Company (LG&E)/Kentucky Utilities (KU) (hereinafter Companies) tendered for filing an executed unilateral transmission service agreement with Allegheny Energy Supply Company, LLC. (Allegheny). This agreement allows Allegheny to take firm point-to-point transmission service from LG&E/KU.

Comment date: July 10, 2000, in accordance with Standard Paragraph E at the end of this notice.

4. Louisville Gas and Electric Company/Kentucky Utilities Company

[Docket No. ER00-2881-000]

Take notice that on June 19, 2000 , Louisville Gas and Electric Company (LG&E)/Kentucky Utilities (KU) (hereinafter Companies) tendered for filing an executed unilateral transmission service agreement with The Legacy Energy Group, LLC (Legacy). This agreement allows Legacy to take non-firm point-to-point transmission service from LG&E/KU.

Comment date: July 10, 2000, in accordance with Standard Paragraph E at the end of this notice.

5. Louisville Gas and Electric Company/Kentucky Utilities Company

[Docket No. ER00-2882-000]

Take notice that on June 19, 2000, Louisville Gas and Electric Company (LG&E)/Kentucky Utilities (KU) (hereinafter Companies) tendered for filing an executed unilateral transmission service agreement with The Legacy Energy Group, LLC (Legacy). This agreement allows Legacy to take firm point-to-point transmission service from LG&E/KU.

Comment date: July 10, 2000, in accordance with Standard Paragraph E at the end of this notice.

6. FirstEnergy System

[Docket No. ER00-2883-000]

Take notice that on June 19, 2000, FirstEnergy System filed Service Agreements to provide Firm Point-to-Point Transmission Service for El Paso Merchant Energy, L.P., the Transmission Customer. Services are being provided under the FirstEnergy System Open Access Transmission Tariff submitted for filing by the Federal Energy Regulatory Commission in Docket No. ER97-412-000.

The proposed effective date for this Service Agreement is June 16, 2000.

Comment date: July 10, 2000, in accordance with Standard Paragraph E at the end of this notice.

7. FirstEnergy System

[Docket No. ER00-2884-000]

Take notice that on June 19, 2000, FirstEnergy System filed a Service Agreement to provide Non-Firm Point-to-Point Transmission Service for El Paso Merchant Energy, L.P., the Transmission Customer. Services are being provided under the FirstEnergy System Open Access Transmission Tariff submitted for filing by the Federal Energy Regulatory Commission in Docket No. ER97-412-000.

The proposed effective date under this Service Agreement is June 16, 2000.

Comment date: July 10, 2000, in accordance with Standard Paragraph E at the end of this notice.

8. Cedar Brakes I, L.L.C.

[Docket No. ER00-2885-000]

Take notice that on June 19, 2000, Cedar Brakes I, L.L.C. (Cedar Brakes) applied to the Commission for acceptance of Cedar Brakes' Rate Schedule F.E.R.C. No. 1; the granting of certain blanket approvals, including the authority to sell electricity at market-based rates; and the waiver of certain Commission regulations. Cedar Brakes' application also seeks Commission acceptance and approval of a power purchase agreement with Public Service Electric & Gas Co.

Cedar Brakes intends to engage in wholesale electric power and energy purchases and sales.

Comment date: July 10, 2000, in accordance with Standard Paragraph E at the end of this notice.

9. Virginia Electric and Power Company

[Docket No. ER00-2886-000]

Take notice that on June 19, 2000, Virginia Electric and Power Company (Virginia Power or the Company) tendered for filing the following:

1. Service Agreement for Firm Point-to-Point Transmission Service by Virginia Electric and Power Company to Pepco Energy Services designated as Service Agreement No. 282 under the Company's FERC Electric Tariff, First Revised Volume No. 5;

2. Service Agreement for Non-Firm Point-to-Point Transmission Service by Virginia Electric and Power Company to Pepco Energy Services designated as Service Agreement No. 283 under the Company's FERC Electric Tariff, First Revised Volume No. 5.

The foregoing Service Agreements are tendered for filing under the Open Access Transmission Tariff to Eligible Purchasers dated July 14, 1997. Under the tendered Service Agreements, Virginia Power will provide point-to-point service to the Transmission Customer under the rates, terms and conditions of the Open Access Transmission Tariff.

Virginia Power requests an effective date of June 19, 2000, the date of filing of the Service Agreements.

Copies of the filing were served upon Pepco Energy Services, the Virginia State Corporation Commission, and the North Carolina Utilities Commission.

Comment date: July 10, 2000, in accordance with Standard Paragraph E at the end of this notice.

10. Newark Bay Cogeneration Partnership, L.P.

[Docket No. ER00-2887-000]

Take notice that on June 19, 2000, Newark Bay Cogeneration Partnership, L.P. (NBCP) applied to the Commission for acceptance of NBCP's Rate Schedule F.E.R.C. No. 1; the granting of certain blanket approvals, including the authority to sell electricity at market-based rates; and the waiver of certain Commission regulations.

NBCP intends to engage in wholesale electric power and energy purchases and sales.

Comment date: July 10, 2000, in accordance with Standard Paragraph E at the end of this notice.

11. Northeast Utilities Service Company

[Docket No. ER00-2888-000]

Take notice that on June 19, 2000, Northeast Utilities Service Company (NUSCO), tendered for filing, a Service Agreement to provide Non-Firm Point-To-Point Transmission Service to Morgan Stanley Capital Group Inc. under the NU System Companies' Open Access Transmission Service Tariff No. 9.

NUSCO states that a copy of this filing has been mailed to Morgan Stanley Capital Group Inc.

NUSCO requests that the Service Agreement become effective July 17, 2000.

Comment date: July 10, 2000, in accordance with Standard Paragraph E at the end of this notice.

12. Northeast Utilities Service Company

[Docket No. ER00-2889-000]

Take notice that on June 19, 2000, Northeast Utilities Service Company (NUSCO), tendered for filing, Service Agreement to provide Firm Point-To-Point Transmission Service to Morgan Stanley Capital Group Inc. under the NU System Companies' Open Access Transmission Service Tariff No. 9.

NUSCO states that a copy of this filing has been mailed to Morgan Stanley Capital Group Inc..

NUSCO requests that the Service Agreement become effective July 17, 2000.

Comment date: July 10, 2000, in accordance with Standard Paragraph E at the end of this notice.

13. Northeast Utilities Service Company

[Docket No. ER00-2890-000]

Take notice that on June 19, 2000, Northeast Utilities Service Company (NUSCO), tendered for filing, a notice that the Northeast Utilities System Companies Open Access Transmission Service Tariff No. 9 should be considered modified to adopt the revised North American Electric Reliability Council Transmission Loading Relief procedures approved in North American Electric Reliability Council, 91 FERC ¶ 61,122 (2000) .

Copies of this filing have been served upon all parties to this proceeding.

Comment date: July 10, 2000, in accordance with Standard Paragraph E at the end of this notice.

14. Wisconsin Public Service Corporation

[Docket No. ER00-2891-000]

Take notice that on June 19, 2000, Wisconsin Public Service Corporation (WPSC) tendered for filing an executed Service Agreement with MPEX, Inter-Utility Marketing providing for transmission service under FERC Electric Tariff, Volume No. 1.

WPSC requests that the agreement be made effective on June 6, 2000.

Comment date: July 10, 2000, in accordance with Standard Paragraph E at the end of this notice.

15. Wisconsin Public Service Corporation

[Docket No. ER00-2892-000]

Take notice that on June 19, 2000, Wisconsin Public Service Corporation (WPSC) tendered for filing an executed Service Agreement with MPEX, Inter-Utility Marketing providing for transmission service under FERC Electric Tariff, Volume No. 1.

WPSC requests that the agreement be made effective on June 6, 2000.

Comment date: July 10, 2000, in accordance with Standard Paragraph E at the end of this notice.

16. United States Department of Energy and Bonneville Power Administration

[Docket No. NJ00-6-000]

Take notice that on June 16, 2000, the Bonneville Power Administration (Bonneville) filed a petition for Expedited Declaratory Order that Proposed Amended Open Access Transmission Tariff Maintains Reciprocity Finding and for Exemption in lieu of Filing Fee. The petition includes a modification to the Bonneville open access transmission tariff adopting the language of Section 17.7 of the Commission's pro forma tariff.

Comment date: July 13, 2000, in accordance with Standard Paragraph E at the end of this notice.

Standard Paragraphs

E. Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

David P. Boergers,
Secretary.

[FR Doc. 00-16539 Filed 6-29-00; 8:45 am]

BILLING CODE 6717-01-P